DEPARTMENT OF THE TREASURY

Office of Foreign Assets Control

Unblocking of Specially Designated Nationals and Blocked Persons, Executive Order 12978

AGENCY: Office of Foreign Assets Control, Treasury.

ACTION: Notice.

SUMMARY: The Department of the Treasury's Office of Foreign Assets Control (OFAC) is publishing the names of the individuals and entities whose property and interests in property have been unblocked pursuant to Executive Order 12978 of October 21, 1995, “Blocking Assets and Prohibiting Transactions With Significant Narcotics Traffickers”.

DATES: The unblocking and removal from the list of Specially Designated Nationals and Blocked Persons (SDN List) of the three individuals and 15 entities identified in this notice whose property and interests in property were blocked pursuant to Executive Order 12978 of October 21, 1995, is effective on May 3, 2016.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site at (www.treasury.gov/ofac) or via facsimile through a 24-hour fax-on demand service at (202) 622-0077.

Background

On October 21, 1995, the President, invoking the authority, inter alia, of the International Emergency Economic Powers Act (50 U.S.C. 1701-1706) (IEEPA), issued Executive Order 12978 (60 FR 54579, October 24, 1995) (the Order). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) to play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On May 3, 2016, the Associate Director of the Office of Global Targeting removed from the SDN List the individuals and entities listed below, whose property and interests in property were blocked pursuant to the Order:

Individuals

1. OSORIO AVILA, Orlando, Calle 14 No. 16-54, La Union, Valle, Colombia; c/o CASA GRAJALES S.A., La Union, Valle, Colombia; c/o FREXCO S.A., La Union, Valle, Colombia; c/o GAD S.A., La Union, Valle, Colombia; c/o GRAJALES S.A., La Union, Valle, Colombia; c/o HOTEL LOS VINEDOS, La Union, Valle, Colombia; c/o INDUSTRIAS DEL ESPIRITU SANTO S.A., Malambo, Atlantico, Colombia; c/o INVERSIONES SANTA CECILIA S.C.S., La Union, Valle, Colombia; c/o TRANSPORTES DEL ESPIRITU SANTO S.A., La Union, Valle, Colombia; c/o EAGLE COMMUNICATION BROKERS INC., Panama City, Panama; c/o FUNDACION CENTRO FRUTICOLA ANDINO, La Union, Valle, Colombia; c/o FUNDACION CENTRO DE INVESTIGACION HORTIFRUTICOLA DE COLOMBIA, La Union, Valle, Colombia; Cedula No. 6355939 (Colombia) (individual) [SDNT].

2. RENGIFO AMAYA, Harvy Ramiro, c/o RED DE SERVICIOS INMOBILIARIO PROFESIONALES S.A., Bogota, Colombia; c/o CENTRO COMERCIAL GUSS S.A., Cali, Colombia; c/o CONSTRUCTORA UMBRIA S.A., Cali, Colombia; c/o FRONTERA VIRTUAL S.A., Bogota, Colombia; c/o INMOBILIARIA QUILICHAO S.A., Cali, Colombia; c/o MIRACANA INMOBILIARIA QUILCHAO S.A. & CIA S.C.A., Cali, Colombia; c/o VENECIA INMOBILIARIA QUILICHAO S.A. & CIA S.C.A., Cali, Colombia; DOB 02 Jan 1982; POB Colombia; nationality Colombia; citizen Colombia; Cedula No. 80201385 (Colombia); Passport AH406973 (Colombia); alt. Passport AE948092 (Colombia) (individual) [SDNT].

3. RENGIFO PUENTES, Ramiro (a.k.a. TORRIJOS, William; a.k.a. “LA LLAVERIA”), c/o RENGIFO MANCERA & CIA S.C.A., Bogota, Colombia; c/o RED DE SERVICIOS INMOBILIARIO PROFESIONALES S.A., Bogota, Colombia; c/o RUIZ DE ALARCON 12 S.L., Madrid, Spain; Calle 98 No. 9-41, Apt. 1102, Torre C, Bogota, Colombia; Calle 99 No. 10-72, Bogota, Colombia; Carrera 12 No. 90-19, Piso2, Bogota, Colombia; Madrid, Spain; DOB 18 Nov 1950; POB Cali; nationality Colombia; citizen Colombia; Cedula No. 19187359 (Colombia); Passport AI912220 (Colombia) issued 30 Jul 2003 expires 30 Jul 2013; alt. Passport AI206319 (Colombia); alt. Passport AG589478 (Colombia); National Foreign ID Number X3093421J (Spain) (individual) [SDNT].

Entities

1. AGROGANADERA LA ISABELA S.A., Avenida 4 No. 6N-61, Ofc. 510, Cali, Colombia; NIT # 900100335-6 (Colombia) [SDNT].

2. CENTRO COMERCIAL GUSS S.A., Carrera 105 No. 14-01, Cali, Colombia; NIT # 900105460-1 (Colombia) [SDNT].

3. CONSTRUCCIONES LA RESERVA S.A., Carrera 105 No. 14-01, Cali, Colombia; NIT # 900100336-3 (Colombia) [SDNT].

4. CONSTRUCTORA JUANAMBU S.A., Carrera 105 No. 14-01, Cali, Colombia; NIT # 900100334-9 (Colombia) [SDNT].

5. CONSTRUCTORA LOMA LINDA S.A., Carrera 105 No. 14-01, Cali, Colombia; NIT # 900100191-2 (Colombia) [SDNT].

6. CONSTRUCTORA UMBRIA S.A., Carrera 105 No. 14-01, Cali, Colombia; NIT # 900100194-4 (Colombia) [SDNT].

7. FRONTERA VIRTUAL S.A., Carrera 12 No. 90-19, Piso 2, Bogota, Colombia; NIT # 830118496-9 (Colombia) [SDNT].

8. INMOBILIARIA QUILICHAO S.A. (f.k.a. AGROPECUARIA B GRAND LTDA.), Avenida 4N No. 6N-61, Apt. 510, Cali, Colombia; NIT # 817002547-1 (Colombia) [SDNT].

9. INVERSIONES INMOBILIARIA QUILICHAO S.A. Y CIA S.C.A. (f.k.a. RENGIFO OSPINA Y CIA S.C.S.), Avenida 4N No. 6N-61, Ofc. 510, Cali, Colombia; NIT # 8001329098 (Colombia) [SDNT].

10. MIRACANA INMOBILIARIA QUILICHAO S.A. & CIA S.C.A. (a.k.a. MIRACANA INMOBILIARIA QUILICHAO S.A. AND CIA S.C.A.), Avenida 4N No. 6N-61, Ofc. 510, Cali, Colombia; NIT # 805017200-1 (Colombia) [SDNT].

11. RED DE SERVICIOS INMOBILIARIO PROFESIONALES S.A. (f.k.a. RED DE INMOBILIARIOS PROFESIONALES S.A.; a.k.a. “RIPSA”), Carrera 12 No. 79-32, Ofc. 703, Bogota, Colombia; NIT # 830065743-4 (Colombia) [SDNT].

12. RENGIFO MANCERA & CIA S.C.A. (a.k.a. RENGIFO MANCERA AND CIA S.C.A.), Carrera 12 No. 79-32, Ofc. 703, Bogota, Colombia; NIT # 800138803-3 (Colombia) [SDNT].

13. RENGIFO O.A.M. Y CIA S.C.A., Carrera 12 No. 79-32, Bogota, Colombia; NIT # 900110717-9 (Colombia) [SDNT].

14. RUIZ DE ALARCON 12 S.L., Calle Ruiz de Alarcon, 12, Madrid 28014, Spain; V.A.T. Number ES B83031682 (Spain) [SDNT].

15. VENECIA INMOBILIARIA QUILICHAO S.A. & CIA S.C.A. (f.k.a. INVERSIONES RENGIFO E HIJOS LTDA.; a.k.a. VENECIA INMOBILIARIA QUILICHAO S.A. AND CIA S.C.A.), Avenida 4N No, 6N-61, Ofc. 510, Cali, Colombia; NIT # 800026554-3 (Colombia) [SDNT].

Dated: May 3, 2016.
Gregory T. Gatjanis,
Associate Director, Office of Global Targeting, Office of Foreign Assets Control.

[FR Doc. 2016-10647 Filed 5-5-16; 8:45 am]

BILLING CODE 4810-AL-P